FEDERAL COMMUNICATIONS COMMISSION

Notice of Public Information Collection(s) Being Reviewed by the Federal Communications Commission

July 3, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 7, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0025.

Title: Application for Restricted Radiotelephone Operator Permit—Limited Use.

Form No.: FCC Form 755.

Type of Review: Revision of a currently approved collection.

Respondents: Individuals or households.

Number of Respondents: 1,000.

Estimated Time Per Response: .33 hours or 20 minutes.

Frequency of Response: On occasion reporting requirement.

Total Annual Burden: 330 hours.

Total Annual Cost: $45,000.

Needs and Uses: Applicants must possess certain qualifications in order to qualify for a radio operator license. The data submitted on FCC Form 755 aids the Commission in determining whether the applicant possess these qualifications. The data will be used to identify the individuals to whom the license is issued and to confirm that the individuals possess the required qualifications for the license. If the data were not collected, it would be impossible to identify the person to whom the license was issued.

This form is being revised to include the FCC Registration Number (FRN) which is required from anyone doing business with the Commission.

OMB Control No.: 3060-0481.

Title: Application for Renewal of Private Radio Station License.

Form No.: FCC Form 452R.

Type of Review: Revision of a currently approved collection.

Respondents: Individuals or households, business or other for-profit, not-for-profit institutions, state, local or tribal governments.

Number of Respondents: 2,700.

Estimated Time Per Response: .166 hours or 10 minutes.

Frequency of Response: On occasion reporting requirement.

Total Annual Burden: 448 hours.

Total Annual Cost: $338,000.

Needs and Uses: In accordance with FCC Rules, Aviation Ground and Marine Coast Radio Station licensees are required to apply for renewal of their radio station authorization every five years. The FCC Form 452R will be used for that purpose. FCC staff will use the data to determine eligibility for a renewed radio station authorization, and to issue a radio station license. The data is also used by Compliance personnel in conjunction with Field Engineers for enforcement and interference resolution purposes.

The form is being revised to collect the FCC Registration Number (FRN) which is required from anyone doing business with the Commission.

Federal Communications Commission.
Magalie Roman Salas,
Secretary.

[FR Doc. 00-17250 Filed 7-6-00; 8:45 am]

BILLING CODE 6712-01-P